DEPARTMENT OF COMMERCE

National Oceanic and Atmospheric Administration

[I.D. 101601C]

Marine Fisheries Advisory Committee; Public Meetings

AGENCY: National Marine Fisheries Service (NMFS), National Oceanic and Atmospheric Administration (NOAA), Commerce.

ACTION: Notice of public meetings.

SUMMARY: Notice is hereby given of meetings of the Marine Fisheries Advisory Committee (MAFAC) from November 6-8, 2001.

DATES: The meetings are scheduled as follows:

1. November 6, 2001, 8:30 a.m.- 4:30 p.m.

2. November 7, 2001, 8:30 a.m.- 4 p.m.

3. November 8, 2001, 9 a.m.-1:30 p.m.

ADDRESSES: The meetings will be held at Wyndham Sugar Bay Resort, 6500 Estate Smith Bay, St. Thomas, U.S. Virgin Islands. Requests for special accommodations may be directed to MAFAC, Office of Operations, Management and Information, NMFS, 1315 East-West Highway, Silver Spring, MD 20910.

FOR FURTHER INFORMATION CONTACT: Laurel Bryant, Designated Federal Official; telephone: (301) 713-2259.

SUPPLEMENTARY INFORMATION: As required by section 10(a) (2) of the Federal Advisory Committee Act, 5 U.S.C. App. (1982), notice is hereby given of meetings of MAFAC and MAFAC Subcommittees. MAFAC was established by the Secretary of Commerce (Secretary) on February 17, 1972, to advise the Secretary on all living marine resource matters that are the responsibility of the Department of Commerce. This Committee ensures that the living marine resource policies and programs of the Nation are adequate to meet the needs of commercial and recreational fisheries, and of environmental, state, consumer, academic, tribal, and other national interests.

Matters to Be Considered

November 6, 2001

General Overview, Administrative Issues, Magnuson-Stevens Act Reauthorization, and National Environmental Policy Act.

November 7, 2001

Ecosystem Management, Sustainability, Marine Protected Areas, Constituent Meeting.

November 8, 2001

Wrap-up reports and adjournment.

Time will be set aside for public comment on agenda items.

Special Accommodations

These meetings are physically accessible to people with disabilities. Requests for sign language interpretation or other auxiliary aids should be directed to MAFAC (see ADDRESSES).

Dated: October 22, 2001.
John Oliver,
Deputy Assistant Administrator for Operations, National Marine Fisheries Service

[FR Doc. 01-27027 Filed 10-23-01; 2:38 pm]

BILLING CODE 3510-22-S